NUCLEAR REGULATORY COMMISSION

[Docket Nos. 50-445 and 50-446]

Luminant Generation Company LLC; Notice of Withdrawal of Application for Amendment to Facility Operating License

The U.S. Nuclear Regulatory Commission (the Commission) has granted the request of Luminant Generation Company LLC (the licensee) to withdraw its January 18, 2007, application, as supplemented by letter dated July 18, 2007, for proposed amendments to Facility Operating License Nos. NPF-87 and NPF-89, for Comanche Peak Steam Electric Station, Units 1 and 2, respectively, located in Somervell County, Texas.

The proposed amendment would have revised Technical Specification 3.8.1, “AC [Alternating Current] Sources—Operating,” by extending the allowable completion time associated with restoration of an inoperable offsite circuit (i.e., the startup transformer).

The Commission had previously issued a Notice of Consideration of Issuance of Amendment published in the Federal Register on May 8, 2007 (72 FR 26178). However, by letter dated October 22, 2007, the licensee withdrew the proposed change.

For further details with respect to this action, see the application for amendment dated January 18, 2007, as supplemented by letter dated July 18, 2007, and the licensee's letter dated October 22, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 2nd day of November, 2007.
For the Nuclear Regulatory Commission.
Balwant K. Singal,
Senior Project Manager, Plant Licensing Branch IV, Division of Operating Reactor Licensing, Office of Nuclear Reactor Regulation.

[FR Doc. E7-21926 Filed 11-7-07; 8:45 am]

BILLING CODE 7590-01-P